DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Evaluation of the Project Rehabilitation and Restitution Program (OMB No. 0930-0248)—Revision

The Rehabilitation and Restitution initiative of the Substance Abuse and Mental Health Services Administration's (SAMHSA) Center for Substance Abuse Treatment seeks to reduce recidivism and increase psychosocial functioning and pro-social lifestyle among substance abusing offenders that have pled to or been convicted of a single felony. Hypotheses of the study are that providing intensive, long-term case management services will facilitate a pro-social lifestyle leading to higher rates of sealing or expunging of criminal records and that the prospect of stigma reduction provided by a sealed criminal record will motivate offenders to remain crime and drug free in order to achieve a felony-free criminal record.

The project consists of (1) providing technical assistance to develop and implement an enhanced model for case management services, and (2) evaluating of the effectiveness of the case management model in increasing the number of people that have their records sealed or maintain eligibility to have their records sealed. The study is confined to jurisdictions with statutes permitting records to be sealed within the remaining three-year parameters of the study. Two counties in Ohio, one involving an urban setting (Cuyahoga county which includes the city of Cleveland) and the other a rural setting (Clermont county adjacent to Northern Kentucky) were awarded by SAMHSA in 2002 in response to the original SAMHSA Request for Applications (RFA).

Target populations, drawn from Cuyahoga and Clermont County Court of Common Pleas Probation Departments, are first-time felons that are eligible to have their felony records sealed, have a diagnosis of substance dependence or abuse, and will receive case management services, including treatment referral, through each County's Treatment Accountability for Safer Communities (TASC) agency.

Technical assistance to participating counties is provided to (1) develop a strengths-based case management model designed to increase the proportion of offenders that achieve record expungement or maintain eligibility to have their felony records sealed, and (2) involve the various stake holders, such as case managers, probation officers and administrators, prosecutors, public defenders, judges, and treatment providers in the implementation of the case management model. A formative evaluation provides feedback on the implementation of the program. A systems evaluation examines the services offered to the felons, and changes in attitudes towards sealing records on the part of critical stakeholders, such as prosecutors, judges and service providers, and criminal justice systemic evolution. An outcomes evaluation examines the effect of the case management model on maintaining eligibility to have records sealed, and social, psychological and health status, HIV risk behavior, and the proportion of subjects who have their records sealed.

In Cuyahoga County a longitudinal study examines two groups of randomly assigned subjects: An intent-to-treat, experimental group participates in a strengths-based case management model during the first six months of a one-year period of judicial supervision followed by three years of outreach services availability through a faith-based community organization; and a control group receives treatment as usual, consisting of the regular TASC case management model now in place with no outreach service availability. Each group is stratified by Standard Court Referral (SCR), i.e., convicted first-time felons that must remain crime-free for three years after release from probation to maintain eligibility to apply for expungement; and Felony Diversion Referral (FDR), i.e., first-time felons whose guilty pleas are held for one year pending successful completion of treatment and probation when the case may be expunged. The evaluation procedures consist of a baseline interview and follow-up interviews over a 4-year period that track outcomes to the point at which most subjects would be eligible to apply for sealing of records. Follow-up interviews and file studies test for a wide array of possible effects, including recidivism, employment, education, drug use, family relationships, support of children, mental and physical health, HIV/AIDS risk factors, assumption of personal responsibility, life adjustment factors, and program costs.

In Cuyahoga the evaluation has recruited 645 participants who have volunteered to participate for the four-year period. Evaluation interviews take place at baseline, 6 months, 12 months, 24 months, and 36 months.

The 24-month interview is an additional interview point to the original OMB approval because it enriches the study by providing data covering the critical first year an offender is off supervision. The additional interview does not increase the burden because the original OMB approval provided for 150 more participants in Cuyahoga and also did not provide for attrition at follow-up. Because a 36-month interview point provides a final interview for all participants before project end date, it replaces the 42-month interview point. The PRR baseline interview included 997 variables. Six-month and twelve-month follow-ups were increased to 1100 variables in order to collect client clinical experience data. Twenty-four and thirty-six month interviews are further increased to 1184 variables in order to measure perception and effect on participants of stigma reduction provided through the elimination of felony records.

Each interview lasts 1 to 2 hours depending on the memory and speed of the respondents. The interview goal is a minimum 80% follow-up completion rate. During the first two years of follow-up both 6- and 12-month rates exceeded 85%. Interview data is supplemented by file studies of arrest records, including the number of participants maintaining sealing eligibility, and the number of criminal records expunged. Additionally, two focus groups of clients receiving strengths-based services will be conducted in each county at 3, 6, 12, 18, 24, and 30 months to provide feedback on client perceptions. Groups will consist of clients both in compliance and not in compliance and of case managers for both experimental and control groups. Groups will consist of 8 to 12 participants chosen at random. Additional file study data will be gathered on the number of case management sessions and the number and frequency of other interventions in the intent-to-treat and control groups. In Clermont County the first-time felon pool is of insufficient size to support an evaluation design with experimental and control groups; however, because the first-time felony substance-abusing population presents unique demographics for analysis, e.g. rural, Caucasian, and greater percentage of females, examining the relationship of case management and motivation for stigma reduction is important. In Clermont, 150 first-time felons will participate in a strengths-based case management model and complete the evaluation instrument at baseline, 6-, 12-, and 24-month points. Because the recruitment window was wider than in Cuyahoga, Clermont participants will not complete a 36-month instrument. A case study, including client, key informant, focus group and file data, will report the Clermont experience.

This OMB revision provides for conclusion of data collection by way of 24- and 36-month participant interviews, 24- and 30-month participant focus groups, case manager focus groups, and electronic files that will inform the Program Restitution and Rehabilitation Evaluation.

Data collection | Number of respondents | Responses per respondent | Hours per response | Total hour burden
Cuyahoga Follow-up Battery: 24- & 36-month | 874 | 1 | 1.85 | 1,617
Clermont Follow-up Battery: 24-month | 90 | 1 | 1.85 | 167
Client Focus Groups: Cuyahoga @ 24- & 30-month | 120 | 1 | 1.50 | 180
Electronic File Data: MCSIS (1) Probation (2) CISAI (1), TASC (1), | 5 | 2 | 4.00 | 40
Quality Assurance (Tx Staff) Multimodality Quality Assurance (MQA) | 6 | 1 | .75 | 5
Stakeholders:
Attitudes Towards Sealing Records | 18 | 2 | .08 | 3
Cuyahoga and Clermont Focus Groups | 18 | 2 | 1.50 | 45
Case Manager Focus Groups | 15 | 6 | 1.50 | 135
Total Burden | 1,046 |  |  | 2,192
3-Year Annual Average | 349 |  |  | 731

Written comments and recommendations concerning the proposed information collection should be sent by October 26, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: September 18, 2006.
Anna Marsh,
Director, Office of Program Services.

[FR Doc. E6-15714 Filed 9-25-06; 8:45 am]

BILLING CODE 4162-20-P